DEPARTMENT OF THE TREASURY

Internal Revenue Service

26 CFR Part 1

[REG-111578-06]

RIN 1545-BF56

Computer Software Under Section 199(c)(5)(B); Correction

AGENCY: Internal Revenue Service (IRS), Treasury.

ACTION: Correction to notice of proposed rulemaking by cross-reference to temporary regulations.

SUMMARY: This document corrects a notice of proposed rulemaking by cross-reference to temporary regulations (REG-111578-06) that was published in the Federal Register on Thursday, June 1, 2006 (71 FR 31128). The document contains temporary regulations concerning the application of section 199 of the Internal Revenue Code, which provides a deduction for income attributable to domestic production activities, to certain transactions involving computer software.

FOR FURTHER INFORMATION CONTACT: Paul Handleman or Lauren Ross Taylor, (202) 622-3040 (not a toll-free number).

SUPPLEMENTARY INFORMATION:

Background

The notice of proposed rulemaking by cross-reference to temporary regulations (REG-111578-06) that is the subject of this correction is under section 199 of the Internal Revenue Code.

Need for Correction

As published, REG-111578-06 contains an error that may prove to be misleading and is in need of clarification.

Correction of Publication

Accordingly, the notice of proposed rulemaking by cross-reference to temporary regulations (REG-111578-06), that was the subject of FR Doc. 06-4827, is corrected as follows:

On page 31129, column 1, in the signature block, the language “Mark E. Mathews,” is corrected to read “Mark E. Matthews, ”.

Guy R. Traynor,
Chief, Publications and Regulations Branch, Legal Processing Division, Associate Chief Counsel (Procedure and Administration).

[FR Doc. E6-10250 Filed 6-28-06; 8:45 am]

BILLING CODE 4830-01-P